DEPARTMENT OF ENERGY

Federal Energy Regulatory Commission

Combined Notice of Filings #1

Take notice that the Commission received the following electric corporate filings:

Docket Numbers: EC14-88-000.

Applicants: Tucson Electric Power Company, UNS Electric, Inc., Gila River Power LLC.

Description: Response to Request for Additional Information of Tucson Electric Power Company, et. al.

Filed Date: 8/14/14.

Accession Number: 20140814-5149.

Comments Due: 5 p.m. ET 9/4/14.

Take notice that the Commission received the following exempt wholesale generator filings:

Docket Numbers: EG14-85-000.

Applicants: Green Pastures Wind I, LLC.

Description: Self-Certification of Exempt Wholesale Generator Status for Green Pastures Wind I, LLC.

Filed Date: 8/15/14.

Accession Number: 20140815-5071.

Comments Due: 5 p.m. ET 9/5/14.

Docket Numbers: EG14-86-000.

Applicants: Avalon Solar Partners, LLC.

Description: Notice of Self-Certification of Exempt Wholesale Generator Status of Avalon Solar Partners, LLC.

Filed Date: 8/15/14.

Accession Number: 20140815-5091.

Comments Due: 5 p.m. ET 9/5/14.

Take notice that the Commission received the following electric rate filings:

Docket Numbers: ER14-1984-000.

Applicants: AEP Energy Partners, Inc.

Description: Supplement to May 19, 2014 Application for Authorization to make affiliate sales with Ohio Valley Electric Corporation of AEP Energy Partners, Inc.

Filed Date: 8/14/14.

Accession Number: 20140814-5146.

Comments Due: 5 p.m. ET 8/25/14.

Docket Numbers: ER14-2203-001.

Applicants: Limon Wind, LLC.

Description: Limon Wind, LLC Amendment to Order No. 784 Compliance Filing to be effective 6/18/2014.

Filed Date: 8/14/14.

Accession Number: 20140814-5134.

Comments Due: 5 p.m. ET 9/4/14.

Docket Numbers: ER14-2286-001.

Applicants: Midcontinent Independent System Operator, Inc.

Description: 2014-08-15_ATC D-T Update Batch 2 Amend—Resubmittal to be effective N/A.

Filed Date: 8/15/14.

Accession Number: 20140815-5061.

Comments Due: 5 p.m. ET 9/5/14.

Docket Numbers: ER14-2658-000.

Applicants: NV Energy, Inc.

Description: OATT Order No. 792 Compliance Filing—Attachment O to be effective 8/4/2014.

Filed Date: 8/15/14.

Accession Number: 20140815-5002.

Comments Due: 5 p.m. ET 9/5/14.

Docket Numbers: ER14-2659-000.

Applicants: NV Energy, Inc.

Description: OATT Revisions to Attachment N to be effective 8/4/2014.

Filed Date: 8/15/14.

Accession Number: 20140815-5003.

Comments Due: 5 p.m. ET 9/5/14.

Docket Numbers: ER14-2660-000.

Applicants: PacifiCorp.

Description: Exelon EIM Participation Construction Agreement to be effective 8/16/2014.

Filed Date: 8/15/14.

Accession Number: 20140815-5085.

Comments Due: 5 p.m. ET 9/5/14.

Docket Numbers: ER14-2661-000.

Applicants: Illinois Power Marketing Company.

Description: Revised Market-Based Rate Tariff to be effective 8/16/2014.

Filed Date: 8/15/14.

Accession Number: 20140815-5115.

Comments Due: 5 p.m. ET 9/5/14.

Take notice that the Commission received the following open access transmission tariff filings:

Docket Numbers: OA14-5-000.

Applicants: DTE Electric Company.

Description: Application of DTE Electric Company continued waiver of the requirements of Order Nos. 888, 889, and 890, their implementing regulations and Part 358 of the Commission's regulations.

Filed Date: 8/15/14.

Accession Number: 20140815-5069.

Comments Due: 5 p.m. ET 9/5/14.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2014.
Nathaniel J. Davis, Sr.,
Deputy Secretary.

[FR Doc. 2014-20094 Filed 8-22-14; 8:45 am]

BILLING CODE 6717-01-P